DEPARTMENT OF TRANSPORTATION

Federal Aviation Administration

14 CFR Part 39

[Docket No. FAA-2006-25688; Directorate Identifier 2006-CE-44-AD]

RIN 2120-AA64

Airworthiness Directives; B-N Group Ltd. BN-2, BN-2A, BN-2B, BN-2T, and BN-2T-4R Series (All Individual Models Included in Type A17EU Certificate Data Sheet (TCDS) A17E, Revision 16, Dated December 9, 2002) Airplanes

AGENCY: Federal Aviation Administration (FAA), Department of Transportation (DOT).

ACTION: Notice of proposed rulemaking (NPRM).

SUMMARY: We propose to adopt a new airworthiness directive (AD) for all B-N Group Ltd. BN-2, BN-2A, BN-2B, BN-2T, and BN-2T-4R series (all individual models included in Type Certificate Data Sheet (TCDS) A17EU, Revision 16, dated December 9, 2002) airplanes. This proposed AD would require you to inspect the horizontal stabilizer attachment bolts and anchor nuts for damage and wear and replace damaged and/or worn parts with new, modified parts. If no damaged or worn parts are found during the proposed inspection, this proposed AD would require you to replace the horizontal stabilizer attachment bolts and anchor nuts at a specified time with new, modified parts. This proposed AD results from mandatory continuing airworthiness information (MCAI) issued by the airworthiness authority for the United Kingdom. We are proposing this AD to detect and correct damaged and/or worn horizontal stabilizer attachment bolts and anchor nuts, which would result in failure of the horizontal stabilizer. This failure could result in loss of control.

DATES: We must receive comments on this proposed AD by October 16, 2006.

ADDRESSES: Use of the following addresses to comment on this proposed AD:

• DOT Docket Web site: Go to http://dms.dot.gov and follow the instructions for sending your comments electronically.

• Government-wide rulemaking Web site: Go to http://www.regulations.gov. and follow the instructions for sending your comments electronically.

• Mail: Docket Management Facility; U.S. Department of Transportation, 400 Seventh Street, SW., Nassif Building, Room PL-401, Washington, DC 20590-0001.

• Fax: (202) 493-2251.

• Hand Delivery: Room PL-401 on the plaza level of the Nassif Building, 400 Seventh Street, SW., Washington, DC, between 9 a.m. and 5 p.m., Monday through Friday, except Federal holidays.

For service information identified in this proposed AD, contact B-N Group Ltd., Bembridge Airport, Isle of Wight, PO35 5PR, United Kingdom; telephone: +44 (0) 1983 872511; fax: +44 (0) 1983 873246.

FOR FURTHER INFORMATION CONTACT: Albert J. Mercado, Aerospace Engineer, FAA, Small Airplane Directorate, 901 Locust, Room 301, Kansas City, Missouri, 64106; telephone: (816) 329-4119; facsimile: (816) 329-4090.

SUPPLEMENTARY INFORMATION:

Comments Invited

We invite you to send any written relevant data, views, or arguments regarding this proposed AD. Send your comments to an address listed under the ADDRESSES section. Include the docket number, “FAA-2006-25688; Directorate Identifier 2006-CE-44-AD” at the beginning of your comments. We specifically invite comments on the overall regulatory, economic, environmental, and energy aspects of the proposed AD. We will consider all comments received by the closing dat and may amend the proposed AD in light of those comments.

We will post all comments we receive, without change, to http://dms.dot.gov, including any personal information you provide. We will also post a report summarizing each substantive verbal contact we receive concerning this proposed AD.

Discussion

The Civil Aviation Authority (CAA), which is the airworthiness authority for the United Kingdom, notified the FAA that an unsafe condition may exist on all B-N Group Ltd. BN-2, BN-2A, BN-2B, BN-2T, and BN-2T-4R series (all individual models included in Type Certificate Data Sheet (TCDS ) A17EU, Revision 16, dated December 9, 2002) airplanes. The CAA has received reports of loose horizontal stabilizer attachment bolts.

This condition, if not corrected, could cause the horizontal stabilizer to fail. This failure could result in loss of control.

Relevant Service Information

We have reviewed B-N Britten-Norman Aircraft Limited Service Bulletin number SB 302, Issue 2, dated April 12, 2005.

The service information describes procedures for:

• Inspecting the horizontal stabilizer attachment bolts and anchor nuts or damage and wear; and

• Replacing the horizontal stabilizer attachment bolts and anchor nuts with new, modified parts.

Foreign Airworthiness Authority Information

The CAA classified this service bulletin as mandatory and issued British AD No. G-2004-0014 R1, Effective Date: July 29, 2005, to ensure the continued airworthiness of these airplanes in the United Kingdom.

The B-N Group Ltd. BN-2, BN-2A, BN-2B, BN-2T, and BN-2T-4R series airplanes are manufactured in the United Kingdom and are type-certificated for operation in the United States under the provisions of section 21.29 of the Federal Aviation Regulations (14 CFR 21.29) and the applicable bilateral airworthiness agreement.

Under this bilateral airworthiness agreement, the CAA has kept us informed of the situation described above.

FAA's Determination and Requirements of the Proposed AD

We are proposing this AD because we have examined the CAA's findings, evaluated all information and determined the unsafe condition described previously is likely to exist or develop on other products of the same type design that are certificated for operation in the United States.

This proposed AD would require you to inspect the horizontal stabilizer attachment bolts and anchor nuts for damage and wear and replace damaged and/or worn parts with new, modified parts. If no damaged or worn parts are found during the proposed inspection, this proposed AD would require you to replace the horizontal stabilizer attachment bolts and anchor nuts at a specified time with new, modified parts.

Differences Between the Foreign Airworthiness Authority AD, the Service Bulletin, and the Proposed AD

The MCAI British AD No. G-2004-0014 R1, Effective Date: July 29, 2005, and B-N Britten-Norman Aircraft Limited Service Bulletin number SB 302, Issue 2, dated April 12, 2005, allows 1,000-hour repetitive inspections of the horizontal stabilizer attachment bolts and anchor nuts with the option of installing the new, modified horizontal stabilizer attachment bolts as a terminating action for the repetitive inspections. This AD does not allow continued repetitive inspections.

The actions required by this AD are consistent with the FAA's aging commuter aircraft policy, which briefly states that, when a modification exists that could eliminate or reduce then umber of required critical inspections, the modification should be incorporated. This policy is based on the FAA's determination that reliance on critical repetitive inspections on airplanes utilized in commuter service carries an unnecessary safety risk when a design change exists that could eliminate or, in certain instances, reduce the number of those critical inspections. In determining what inspections are critical, the FAA considers (1) the safety consequences of the airplane if the known problem is not detected by the inspection; (2) the reliability of the inspection such as the probability of not detecting the known problem; (3) whether the inspection area is difficult to access; and (4) the possibility of damage to an adjacent structure as a result of the problem.

Costs of Compliance

We estimate that this proposed AD would affect 91 airplanes in the U.S. registry.

We estimate the following costs to do the proposed inspection:

Labor cost | Parts cost | Total cost per airplane | Total cost on U.S. operators
1 work-hour × $80 per hour = $80 | Not applicable | $80 | $80 × 91 = $7,280.

We estimate the following costs to do the proposed replacements:

Labor cost | Parts cost | Total cost per airplane | Total cost on U.S. operators
3 work-hours × $80 per hour = $240 | $1,600 | $240 + $1,600 = $1,840 | $1,840 × 91 = $167,440.

Authority for This Rulemaking

Title 49 of the United States Code specifies the FAA's authority to issue rules on aviation safety, Subtitle I, section 106, describes the authority of the FAA Administrator. Subtitle VII, Aviation Programs, describes in more detail the scope of the Agency's authority.

We are issuing this rulemaking under the authority described in subtitle VII, part A, subpart II, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

Examining the AD Docket

You may examine the AD docket that contains the proposed AD, the regulatory evaluation, any comments received, and other information on the Internet at http://dms.dot.gov; or in person at the Docket Management Facility between 9 a.m. and 5 p.m., Monday through Friday, except Federal holidays. The Docket Office (telephone (800) 647-5227) is located at the street address stated in the ADDRESSES section. Comments will be available in the AD docket shortly after receipt.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

B-N Group Ltd: Docket No. FAA-2006-25688; Directorate Identifier 2006-CE-44-AD.

Comments Due Date

(a) We must receive comments on this airworthiness directive (AD) action by October 16, 2006.

Affected ADs

(b) None.

Applicability

(c) This AD applies to all BN-2, BN-2A, BN-2B, BN-2T, and BN-2T-4R series (all individual models included in Type Certificate Data Sheet (TCDS) A17EU, Revision 16, dated December 9, 2002) airplanes; that are certificated in any category.

Unsafe Condition

(d) This AD results from mandatory continuing airworthiness information (MCAI) issued by the airworthiness authority for the United Kingdom. We are issuing this AD to detect and correct damaged and/or worn horizontal stabilizer attachment bolts and anchor nuts, which could result in failure of the horizontal stabilizer. This failure could result in loss of control.

Compliance

(e) To address this problem, you must do the following, unless already done:

Actions | Compliance | Procedures
(1) Inspect the horizontal stablilzer attachment bolts and anchor nuts for damage and wear | Within the next 50 hours time-in-service (TIS) or 2 months, whichever occurs first, after the effective date of this AD | Follow B-N Britten-Norman Aircraft Limited Service Bulletin number SB 302, Issue 2, dated April 12, 2005.
(2) If you find any damaged or worn horizontal stabilizer attachment bolts and/or anchor nuts during the inspection required in paragraph (e)(1) of this AD, replace with new, modified horizontal stabilizer attachment bolts | Before further flight after the inspection required in paragraph (e)(1) of this AD | As specified in B-N Britten-Norman Aircraft Limited Service Bulletin number SB 302, Issue 2, dated April 12, 2005. Do any necessary replacements following B-N Group Ltd. Modification Leaflet for Mod NB-M-1787, Issue 1, dated August 1, 2005.
(3) If you do not find damaged or worn horizontal stabilizer attachment bolts and/or anchor nuts during the inspection required in paragraph (e)(1) of this AD, replace the horizontal stabilizer attachment bolts and anchor nuts with new, modified horizontal stabilizer attachment bolts | Upon accumulating 1,000 hours TIS after the inspection required in paragraph (e)(1) of this AD | Follow B-N Group Ltd. Modification Leaflet for Mod NB-M-1787, Issue 1, dated August 1, 2005.
(4) You may replace the horizontal stabilizer attachment bolts and anchor nuts with the new, modified horizontal stabilizer attachment bolts at any time, but no later than the applicable times specified in paragraphs (e)(2) and (e)(3) of this AD. After installing the new, modified horizontal stabilizer attachment bolts, no further action is required | As of the effective date of this AD | Follow B-N Group Ltd. Modification Leaflet for Mod NB-M-1787, Issue 1, dated August 1, 2005.

Alternative Methods of Compliance (AMOCs)

(f) The Manager, Standards Staff, FAA, ATTN: Albert J. Mercado, Aerospace Engineer, Small Airplane Directorate, 901 Locust, Room 301, Kansas City, Missouri 64106; telephone: (816) 329-4119; facsimile: (816) 329-4090, has the authority to approve AMOCs for this AD, if requested using the procedures found in CFR 39.19.

Related Information

(g) MCAI British AD No. G-2004-0014 R1, Effective Date: July 29, 2005, also addresses the subject of this AD. To get copies of the service information referenced in this AD, contact B-N Group Ltd., Bembridge Airport, Isle of Wight, PO35 5PR, United Kingdom; telephone: +44 (0) 1983 872511; fax: +44 (0) 1983 873246. To view the AD docket, go to the Docket Management Facility; U.S. Department of Transportation, 400 Seventh Street, SW., Nassif Building, Room PL-401, Washington, DC, or on the Internet at http://dms.dot.gov. The docket number is Docket No. FAA-2006-25688; Directorate Identifier 2006-CE-44-AD.

Issued in Kansas City, Missouri, on September 11, 2006.
John R. Colomy,
Acting Manager, Small Airplane Directorate, Aircraft Certification Service.

[FR Doc. 06-7706 Filed 9-14-06; 8:45 am]

BILLING CODE 4910-13-M